DEPARTMENT OF EDUCATION

Submission for OMB Review; Comment Request

AGENCY: Department of Education.

SUMMARY: The Acting Director, Information Collection Clearance Division, Regulatory Information Management Services, Office of Management invites comments on the submission for OMB review as required by the Paperwork Reduction Act of 1995.

DATES: Interested persons are invited to submit comments on or before June 8, 2009.

ADDRESSES: Written comments should be addressed to the Office of Information and Regulatory Affairs, Attention: Education Desk Officer, Office of Management and Budget, 725 17th Street, NW., Room 10222, New Executive Office Building, Washington, DC 20503, be faxed to (202) 395-5806 or send e-mail to oira_submission@omb.eop.gov.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The Acting Director, Regulatory Information Management Services, Office of Management, publishes that notice containing proposed information collection requests prior to submission of these requests to OMB. Each proposed information collection, grouped by office, contains the following: (1) Type of review requested, e.g. new, revision, extension, existing or reinstatement; (2) Title; (3) Summary of the collection; (4) Description of the need for, and proposed use of, the information; (5) Respondents and frequency of collection; and (6) Reporting and/or Recordkeeping burden. OMB invites public comment.

Dated: May 4, 2009.
James Hyler,
Acting Director, IC Clearance Official, Regulatory Information Management Services, Office of Management.

Institute of Education Sciences

Type of Review: Revision.

Title: Integrated Postsecondary Education Data System.

Frequency: Annually.

Affected Public: Businesses or other for-profit; not-for-profit institutions; State, Local, or Tribal Gov't, SEAs or LEAs.

Reporting and Recordkeeping Hour Burden:

Responses: 58,090.

Burden Hours: 189,136.

Abstract: The National Center for Education Statistics (NCES) is requesting an amendment to its three-year clearance for the Integrated Postsecondary Education Data System (IPEDS) to run for the 2008-09, 2009-10, and 2010-2011 web-based data collections. Current authorization for IPEDS expires January 31, 2012 (OMB No. 1850-0582). The Higher Education Opportunity Act (HEOA), which became law on August 14, 2008, after OMB had already granted IPEDS a three-year clearance, has several implications for the IPEDS annual web-based data collection. The law requires the immediate implementation of several new institutional reporting requirements so that the data may be made available on the College Navigator website by August 2009. To meet these statutory deadlines, NCES requested two amendments to its clearance package from OMB, in order to meet the August 2009 deadline for several new requirements in the new law. First, a change memo was sent to OMB on August 19, 2008 (known as “Amendment 1”). It included a small number of non-substantive changes to the 2008-09 data collection based on the new requirements. OMB provided clearance for those changes in a notice on August 26, 2008. Then, NCES submitted a revised clearance package (known as “Amendment 2”). It included a limited number of additional substantive changes to spring cycle of the 2008-09 IPEDS web-based data collection. OMB provided clearance for those changes in a notice on January 16, 2009.

NCES now requests a third set of revisions to the Original Clearance Package to meet additional Higher Education Opportunity Act (HEOA) requirements for the collection of data related to net price in the 2009-10 and 2010-11 data collections (known hereafter as “Amendment 3”). These changes do not affect the 2008-09 data collection now underway. These changes will allow NCES to make available on the College Navigator website data on institutional net prices and a multi-year tuition calculator. In addition, we are including a set of changes to improve the data already collected in IPEDS that are based on suggestions from the postsecondary education data community and IPEDS Technical Review Panel. These changes will improve the reporting of data related to the new HEOA-mandated student-to-faculty ratio, and simplify IPEDS reporting and reduce reporting burden for nondegree-granting institutions.

Requests for copies of the information collection submission for OMB review may be accessed from http://edicsweb.ed.gov, by selecting the “Browse Pending Collections” link and by clicking on link number 3947. When you access the information collection, click on “Download Attachments” to view. Written requests for information should be addressed to U.S. Department of Education, 400 Maryland Avenue, SW., LBJ, Washington, DC 20202-4537. Requests may also be electronically mailed to the Internet address ICDocketMgr@ed.gov or faxed to 202-401-0920. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. E9-10636 Filed 5-6-09; 8:45 am]

BILLING CODE 4000-01-P